GENERAL SERVICES ADMINISTRATION

[OMB Control No. 3090-0302; Docket No. 2025-0001; Sequence No. 7]

Information Collection; General Services Administration Acquisition Regulation; Modifications (Federal Supply Schedule) 552.238-82

AGENCY: Office of Acquisition Policy, General Services Administration (GSA).

ACTION: Notice of request for comments.

SUMMARY: Under the provisions of the Paperwork Reduction Act, the Regulatory Secretariat Division will be submitting to the Office of Management and Budget (OMB) a request to review and approve an extension to the information collection requirement regarding the Modifications (Federal Supply Schedule) clause.

DATES: Submit comments on or before: July 7, 2025.

FOR FURTHER INFORMATION CONTACT: Mr. Thomas O'Linn, Procurement Analyst, General Services Acquisition Policy Division, GSA, 202-445-0390 or email gsarpolicy@gsa.gov.

ADDRESSES: Submit comments identified by “Information Collection 3090-0302, Modifications (Federal Supply Schedule)” to: http://www.regulations.gov. Submit comments via the Federal eRulemaking portal by searching for “Information Collection 3090-0302, Modifications (Federal Supply Schedule)”. Select the link “Submit a Comment” that corresponds with “Information Collection 3090-0302, Modifications (Federal Supply Schedule)”. Follow the instructions provided at the “Submit a Comment” screen. Please include your name, company name (if any), and “Information Collection 3090-0302, Modifications (Federal Supply Schedule),” on your attached document. If your comment cannot be submitted using https://www.regulations.gov, call or email the points of contact in the FOR FURTHER INFORMATION CONTACT section of this document for alternate instructions.

Instructions: Please submit comments only and cite Information Collection 3090-0302, Modifications (Federal Supply Schedule), in all correspondence related to this collection. Comments received generally will be posted without change to http://www.regulations.gov, including any personal and/or business confidential information provided. To confirm receipt of your comment(s), please check www.regulations.gov, approximately two-to-three days after submission to verify posting.

SUPPLEMENTARY INFORMATION:

A. Purpose

The General Services Administration Acquisition Regulation (GSAR) clause 552.238-82, Modifications (Federal Supply Schedule), which was previously titled and numbered as 552.238-81 Modifications (see 84 FR 17030 dated April 23, 2019), requires Contractors who have a GSA Multiple Award Schedule (MAS) (also known as Federal Supply Schedule (FSS)) contract to request a contract modification by submitting information to the contracting officer. At a minimum, each contract modification request covered by this clause is to include an explanation for the request and supporting information. The clause has an Alternate I and Alternate II as well.

The basic clause applies to MAS contracts that are not subject to transactional data reporting and covers the following types of requests for contract modification: additional items/additional SINs, deletions, and price reductions. Alternate I is pretty much the same as the basic clause with exception to paragraph (e) being revised to reflect a MAS contractor accepting eMod. Alternate II applies to MAS contracts subject to transactional data reporting and covers the following requests for contract modification: additional items/additional SINs and deletions.

B. Annual Reporting Burden

Respondents: 8,000.

Responses per Respondent: 1.

Total Responses: 8,00.

Hours per Response: 3.5.

Total Burden Hours: 28,000.

C. Public Comments

Public comments are particularly invited on: Whether this collection of information is necessary and whether it will have practical utility; whether our estimate of the public burden of this collection of information is accurate and based on valid assumptions and methodology; ways to enhance the quality, utility, and clarity of the information to be collected.

Obtaining Copies of Proposals

Requesters may obtain a copy of the information collection documents from the GSA Regulatory Secretariat Division, by calling 202-501-4755 or emailing GSARegSec@gsa.gov. Please cite OMB Control No. 3090-0302, “Modifications (Federal Supply Schedule)” in all correspondence.

Jeffrey A. Koses,
Senior Procurement Executive, Office of Acquisition Policy, Office of Government-wide Policy.

[FR Doc. 2025-07842 Filed 5-5-25; 8:45 am]

BILLING CODE 6820-61-P